DEPARTMENT OF HOMELAND SECURITY

Coast Guard

33 CFR Part 117

[Docket No. USCG-2015-1082]

Drawbridge Operation Regulation; Arthur Kill, Staten Island, New York

AGENCY: Coast Guard, DHS.

ACTION: Notice of deviation from drawbridge regulation.

SUMMARY: The Coast Guard has issued a temporary deviation from the operating schedule that governs the Arthur Kill (AK) Railroad Bridge across Arthur Kill, mile 11.6, between Staten Island, New York and Elizabeth, New Jersey. This deviation allows the bridge to remain in the closed position to facilitate scheduled maintenance. This deviation is necessary to facilitate tie and miter rail replacement on the lift span.

DATES: This deviation is effective from 8:21 a.m. on January 9, 2016 to 6:45 p.m. January 31, 2016.

ADDRESSES: The docket for this deviation, [USCG-2015-1082] is available at http://www.regulations.gov. Type the docket number in the “SEARCH” box and click “SEARCH”. Click on Open Docket Folder on the line associated with this deviation.

FOR FURTHER INFORMATION CONTACT: If you have questions on this temporary deviation, call or email Mr. Joe Arca, Project Officer, First Coast Guard District, telephone (212) 514-4336, email joe.m.arca@uscg.mil.

SUPPLEMENTARY INFORMATION: The AK Railroad Bridge, across Arthur Kill, mile 11.6, between Staten Island, New York and Elizabeth, New Jersey has a vertical clearance in the closed position of 31 feet at Mean High Water and 35 feet at Mean Low Water. The existing drawbridge operation regulations are listed at 33 CFR 117.702.

The waterway supports both commercial and recreational navigation of various vessel sizes. The operator of the bridge, Conrail, requested a temporary deviation to facilitate scheduled maintenance and to replace the tie and miter rail on the bridge. The bridge must remain in the closed position to perform this maintenance.

Under this temporary deviation, the draw may remain in the closed position as follows:

On January 9, 2016 from 8:21 a.m. to 1:02 p.m. and from 3:02 p.m. to 6:46 p.m.

On January 10, 2016 from 8:59 a.m. to 1:46 p.m. and 3:46 p.m. to 7:26 p.m.

On January 16, 2016 from 8:19 a.m. to 12:08 p.m. and from 2:08 p.m. to 6:43 p.m.

On January 17, 2016 from 9:30 a.m. to 1:09 p.m. and from 3:09 p.m. to 7:47 p.m.

On January 23, 2016 from 8:31 a.m. to 1:02 p.m. and from 3:02 p.m. to 6:59 p.m.

On January 24, 2016 from 9:15 a.m. to 1:47 p.m. and from 3:47 p.m. to 7:45 p.m.

On January 30, 2016 from 7:27 a.m. to 11:33 a.m. and from 1:33 p.m. to 5:51 p.m.

On January 31, 2016 from 8:27 a.m. to 12:17 p.m. and from 2:17 p.m. to 6:45 p.m.

Vessels able to pass through the bridge in the closed positions may do so at anytime. There are no alternate routes for vessel traffic. The bridge can be opened in an emergency. The Coast Guard will also inform the users of the waterway through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 16, 2015.
C.J. Bisignano,
Supervisory Bridge Management Specialist, First Coast Guard District.

[FR Doc. 2015-32447 Filed 12-23-15; 8:45 am]

BILLING CODE 9110-04-P